DEPARTMENT OF TRANSPORTATION

Federal Highway Administration

Notice of Final Federal Agency Actions on Proposed SR-32 Project in Tennessee

AGENCY: Federal Highway Administration (FHWA), DOT.

ACTION: Notice of limitation on claims for judicial review of actions by FHWA and other Federal agencies.

SUMMARY: This notice announces actions taken by FHWA and other Federal agencies that are final within the meaning of the statute. The actions relate to a proposed highway project, State Route (SR) 32 (US-321) from SR-73 at Cosby to North of Wilton Springs Road in Cocke County, Tennessee. Those actions grant licenses, permits, and approvals for the project. The FHWA's Finding of No Significant Impact (FONSI) provides details on the Selected Alternative for the proposed improvements.

DATES: By this notice, FHWA is advising the public of final agency actions subject to 23 U.S.C. 139(l)(1). A claim seeking judicial review of the Federal agency actions on the highway project will be barred unless the claim is filed on or before March 14, 2024. If the Federal law that authorizes judicial review of a claim provides a time period of less than 150 days for filing such claim, then that shorter time period still applies.

FOR FURTHER INFORMATION CONTACT: For FHWA: Ms. Pamela M. Kordenbrock; Division Administrator; Federal Highway Administration; Tennessee Division Office; 404 BNA Drive, Building 200, Suite 508; Nashville, Tennessee 37217; Telephone (615) 781-5770; email: Pamela.Kordenbrock@dot.gov. The FHWA Tennessee Division Office's normal business hours are 7:30 a.m. to 4 p.m. (Central Time). You may also contact Ms. Susannah Kniazewycz, P.E. Environmental Division Director, Tennessee Department of Transportation (TDOT), James K. Polk Building, Suite 900, 505 Deaderick Street, Nashville, Tennessee 37243-0334; Telephone (615) 741-3655, Susannah.Kniazewycz@tn.gov. The TDOT Environmental Division's normal business hours are 8 a.m. to 5 p.m. (Central Time). For U.S. Army Corps of Engineers (USACE): William E. Worrall, P.E., Chief, Technical Services Branch, USACE Nashville District, 3701 Bell Road, Nashville, Tennessee 37214; Telephone (615) 369-7513, william.e.worrall@usace.army.mil. The USACE Nashville District's normal business hours are 7 a.m. to 3:30 p.m. (Central Time).

SUPPLEMENTARY INFORMATION: Notice is hereby given that FHWA and USACE have taken final agency actions by issuing licenses, permits, and approvals for the following highway project in the State of Tennessee: SR-32 (US-321), Project Number 15005-1234-04, PIN 101422.00, Cocke County, Tennessee. The proposed action will improve access to high tourism areas within the region, improve the roadway to meet current design standards, improve traffic operational efficiency, reduce crashes, meet the legislative intent of the Improving Manufacturing, Public Roads, and Opportunities for a Vibrant Economy (IMPROVE) Act, and enhance economic development opportunities. The Selected Alternative (Build Alternative A) will begin on SR-73 just south of Stonebrook Drive and continue north on new location west of Stonebrook Drive for approximately 1.4 miles before crossing existing SR-32. After crossing existing SR-32, the Selected Alternative (Build Alternative A) continues north on new location to just north of SR-339 (Jones Cove Road), where it then follows the existing SR-32 alignment, except where it straightens out several curves, to north of Middle Creek Road where it again travels on new location to align with existing SR-32 at the SR-32/Wilton Springs Road intersection. The Selected Alternative (Build Alternative A) continues through the intersection to connect with the existing 4-lane divided section of SR-32 north of the bridge over Cosby Creek. The Selected Alternative (Build Alternative A) will result in the realignment of the entrance to the Foothills Parkway, which is under the jurisdiction of the National Park Service (NPS). Coordination with the NPS has been ongoing throughout project development. The NPS concurred with FHWA's proposed Section 4(f) de minimis use determination related to impacts associated with the Foothills Parkway on March 3, 2023.

The actions by the Federal agencies, and the laws under which such actions were taken, are described in the Environmental Assessment (EA) for the project, approved on March 16, 2022, in the FHWA FONSI issued on July 13, 2023, and in other documents in the FHWA project records. The EA, FONSI, and other project records are available by contacting the FHWA or TDOT at the addresses provided above. The FHWA EA and FONSI can be viewed and downloaded from the project website at https://www.tn.gov/tdot/projects/projects-region-1/sr-32-project.html, or viewed at the TDOT—Environmental Division, James K. Polk Building, Suite 900, 505 Deaderick Street, Nashville, Tennessee 37243-0334, the Cocke County Mayor's Office, 360 East Main Street, Newport, Tennessee 37821, or the TDOT Construction Office, 1046 Cosby Highway, Newport, Tennessee 37821

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [23 U.S.C. 138 and 49 U.S.C. 303].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.].

6. Social and Economic: Civil Rights Act of 1964 [42 U.S.C. 2000(d)-2000(d)(1)]; Farmland Protection Policy Act (FPPA) [7 U.S.C. 4201-4209].

7. Wetlands and Water Resources: Clean Water Act (Section 404, Section 401, and Section 319) [33 U.S.C. 1251-1377].

8. Hazardous Materials: Comprehensive Environmental Response, Compensation, and Liability Act (CERCLA) [42 U.S.C. 9601-9675].

9. Executive Orders: E.O. 11990 Protection of Wetlands; E.O. 11988 Floodplain Management; E.O. 13112 Invasive Species; E.O. 12898 Federal Actions to Address Environmental Justice in Minority Populations and Low Income Populations; E.O. 13175 Consultation and Coordination with Indian Tribal Governments; E.O. 11514 Protection and Enhancement of Environmental Quality.

(Catalog of Federal Domestic Assistance Program Number 20.205, Highway Planning and Construction. The regulations implementing Executive Order 12372 regarding intergovernmental consultation on Federal programs and activities apply to this program.)

Authority: 23 U.S.C. 139(l)(1).

Daniel Hinton,
Acting Division Administrator, Nashville, Tennessee.

[FR Doc. 2023-22773 Filed 10-13-23; 8:45 am]

BILLING CODE 4910-RY-P